DEPARTMENT OF LABOR

Office of the Secretary

Agency Information Collection Activities; Submission for OMB Review; Comment Request; H-1B Technical Skills Training and Jobs and Innovation Accelerator Challenge Grants

ACTION: Notice.

SUMMARY: The Department of Labor (DOL) is submitting the Employment and Training Administration (ETA) sponsored information collection request (ICR) revision titled, “H-1B Technical Skills Training and Jobs and Innovation Accelerator Challenge Grants,” to the Office of Management and Budget (OMB) for review and approval for use in accordance with the Paperwork Reduction Act (PRA) of 1995 (44 U.S.C. 3501 et seq.). Public comments on the ICR are invited.

DATES: The OMB will consider all written comments that agency receives on or before June 27, 2016.

ADDRESSES: A copy of this ICR with applicable supporting documentation; including a description of the likely respondents, proposed frequency of response, and estimated total burden may be obtained free of charge from the RegInfo.gov Web site at http://www.reginfo.gov/public/do/PRAViewICR?ref_nbr=201604-1205-006 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the H-1B Technical Skills Training (TST) and Jobs and Innovation Accelerator Challenge (JIAC) Grants information collection. In applying for the H-1B TST, JAIC, and Ready to Work grant programs, grantees agree to submit participant-level data quarterly for individuals who receive services through these programs. The reports include aggregate data on demographic characteristics, types of services received, placements, outcomes, and follow-up status. Specifically, grantees summarize data on employment and training services, placement services, and other services essential to successful unsubsidized employment through H-1B programs. This reporting structure features standardized data collection on program participants and quarterly narrative, performance, and Management Information System report formats. All data collection and reporting will be done by grantee organizations (State or local governments, not-for-profit, or faith-based and community organizations) or their sub-grantees. This information collection has been classified as a revision because of (1) code value formatting changes; (2) additional technical assistance guidance in the Handbook to Performance Reporting; (3) reformatting the Handbook to improve its readability; (4) removing duplicative data elements listed on Form ETA-9166, Standardized Quarterly Progress Report; (5) changes to an evaluation consent form; (6) the addition of a baseline information form to support data collection; and (7) the removal of information collections related to completed site visit activities. American Competitiveness and Workforce Improvement Act of 1998 section 414(c) authorizes this information collection. See 29 U.S.C. 219(c) note.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0507. The current approval is scheduled to expire on May 31, 2016; however, the DOL notes that existing information collection requirements submitted to the OMB receive a month-to-month extension while they undergo review. New requirements would only take effect upon OMB approval. For additional substantive information about this ICR, see the related notice published in the Federal Register on February 23, 2016 (81 FR 8992).

Interested parties are encouraged to send comments to the OMB, Office of Information and Regulatory Affairs at the address shown in the ADDRESSES section within thirty (30) days of publication of this notice in the Federal Register. In order to help ensure appropriate consideration, comments should mention OMB Control Number 1205-0507. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: H-1B Technical Skills Training and Jobs and Innovation Accelerator Challenge Grants.

OMB Control Number: 1205-0507.

Affected Public: State, Local, and Tribal Governments; Individuals or Households; and Private Sector—not-for-profit institutions.

Total Estimated Number of Respondents: 25,170.

Total Estimated Number of Responses: 50,740.

Total Estimated Annual Time Burden: 73,360 hours.

Total Estimated Annual Other Costs Burden: $0.

Dated: May 20, 2016.
Michel Smyth,
Departmental Clearance Officer.

[FR Doc. 2016-12456 Filed 5-25-16; 8:45 am]

BILLING CODE 4510-FP-P